DEPARTMENT OF ENERGY

Federal Energy Regulatory Commission

[Docket No. CP04-114-000]

Compass Pass Pipeline LLC; Notice of Intent To Prepare an Environmental Impact Assessment for the Proposed Compass Pass Pipeline Project and Notice of Site Visit

June 30, 2004.

The Federal Energy Regulatory Commission (FERC or Commission) will participate in the preparation of an environmental impact assessment (EIS) that will discuss the environmental impacts of the Compass Port deepwater port and the associated Compass Pass Pipeline Project involving construction and operation of facilities by Compass Pass Pipeline LLC (Compass Pass) in Mobile County, Alabama.¹ These facilities would consist of about 5 miles of onshore 36-inch-diameter pipeline. The onshore portion of the pipeline is the only part of the project under FERC jurisdiction. This EIS will be used by the Commission in its decision-making process to determine whether its portion of the project is in the public convenience and necessity.

¹ ANR's application was filed with the Commission under section 7 of the Natural Gas Act and part 157 of the Commission's regulations.

On June 25, 2004, the U.S. Coast Guard (USCG) issued a notice of intent in the Federal Register to prepare an EIS for the Compass Port deepwater port, notice of public meeting, and request for public comments. Compass Port includes the deepwater port liquefied natural gas (LNG) facility located 26 miles offshore, 26 miles of 36-inch-diameter pipeline, and the Compass Pass Pipeline. Compass Pass, a wholly owned subsidiary of ConocoPhillips Company (Conoco Phillips), filed an application on March 29, 2004, with the U.S. Department of Transportation's Maritime Administration (Maritime Administration) for construction and operation of the Compass Port deepwater port and associated Compass Pass Pipeline. Pursuant to the Deepwater Port Act of 1974, as amended, jurisdiction over deepwater natural gas ports is vested in the Department of Transportation's Maritime Administration and the Department of Homeland Security. The USCG is preparing an EIS, as the lead agency, for the entire project including the onshore Compass Pass Pipeline. The FERC, as a cooperating agency, will provide documentation and review to support the preparation of applicable sections of the USCG EIS.

If you are a landowner receiving this notice, you may be contacted by a pipeline company representative about the acquisition of an easement to construct, operate, and maintain the proposed facilities. The pipeline company would seek to negotiate a mutually acceptable agreement. However, if the project is approved by the Commission, that approval conveys with it the right of eminent domain. Therefore, if easement negotiations fail to produce an agreement, the pipeline company could initiate condemnation proceedings in accordance with State law.

A fact sheet prepared by the FERC entitled “An Interstate Natural Gas Facility On My Land? What Do I Need To Know?” was attached to the project notice CompassPass provided to landowners. This fact sheet addresses a number of typically asked questions, including the use of eminent domain and how to participate in the Commission's proceedings. It is available for viewing on the FERC Internet Web site (http://www.ferc.gov).

Summary of the Proposed Project

Compass Pass wants to connect the Compass Port offshore pipeline to three downstream interstate natural pipelines to transport approximately 1.5 billion cubic feet per day of regasified LNG from the Compass Port deepwater port. The Compass Port deepwater port would receive, store, and regasify LNG for transport to the combined offshore/onshore pipeline. Additional proposed facilities for the Compass Pass Pipeline include a valve station, a meter station, flow valves, a receiving station with pig receiver, two short 16-inch-diameter laterals with meters and flow valves, and interconnect facilities to the three existing natural gas pipelines.

The general location of the project facilities is shown in appendix 1.

Land Requirements for Construction

Construction of the proposed onshore facilities would require about 79 acres of land, of which 33 acres would be new permanent right-of-way (ROW) easement after construction. Virtually all construction would occur adjacent to previously disturbed ROW.

The EA Process

The National Environmental Policy Act (NEPA) requires the Commission to take into account the environmental impacts that could result from an action whenever it considers the issuance of a Certificate of Public Convenience and Necessity. NEPA also requires us² to discover and address concerns the public may have about proposals. This process is referred to as “scoping”. The main goal of the scoping process is to focus the analysis in the EIS on the important environmental issues. By this Notice of Intent, the Commission requests public comments on the scope of the onshore pipeline related issues the Commission is required to address in the EIS. All comments received are considered during the preparation of the EIS. State and local government representatives are encouraged to notify their constituents of this proposed action and encourage them to comment on their areas of concern.

² “We”, “us”, and “our” refer to the environmental staff of the Office of Energy Projects (OEP).

The EIS will contain evaluations of possible alternatives to the proposed project or portions of the project, and make recommendations on how to lessen or avoid impacts on the various resource areas.

To ensure your comments to the Commission are considered, please carefully follow the instructions in the public participation section beginning on the next page.

Currently Identified Environmental Issues

We have already identified several issues that we think deserve attention based on a preliminary review of the proposed facilities and the environmental information provided by Compass Pass Pipeline. This preliminary list of issues may be changed based on your comments and our analysis. The onshore pipeline would

• Cross seven waterways ranging in width from 5-22 feet;

• Disturb fifty-two acres of wetland, including coastal marsh habitat;

• Use water from local waterways and wetlands for hydrostatic testing; and

• Use four access roads.

In addition, fourteen Federally threatened and endangered species may occur in the proposed project area.

Public Participation

You can make a difference by providing us with your specific comments or concerns about the project. By becoming a commenter, your concerns will be addressed in the EIS and considered by the Commission. You should focus on the potential environmental effects of the proposal, alternatives to the proposal, including alternative pipeline alignments, and measures to avoid or lessen environmental impact. The more specific your comments, the more useful they will be. Please carefully follow these instructions to ensure that your comments are received in time and properly recorded:

• Send an original and two copies of your letter to: Magalie R. Salas, Secretary, Federal Energy Regulatory Commission, 888 First St., NE., Room 1A, Washington, DC 20426.

• Label one copy of the comments for the attention of Gas Branch 2.

• Reference Docket No. CP04-114-000.

• Mail your comments so that they will be received in Washington, DC on or before July 26, 2004.

Please note that we are continuing to experience delays in mail deliveries from the U.S. Postal Service. As a result, we will include all comments that we receive within a reasonable time frame in our environmental analysis of this project. However, the Commission strongly encourages electronic filing of any comments or interventions or protests to this proceeding. See 18 CFR 385.2001(a)(1)(iii) and the instructions on the Commission's Web site at http://www.ferc.gov under the “e-Filing” link and the link to the User's Guide. Before you can file comments you will need to create a free account which can be created on-line.

If you do not want to send comments at this time but still want to remain on our mailing list, please return the Information Request (appendix 3). If you do not return the Information Request, you will be taken off our mailing list.

Notice of Site Visit

The USCG will conduct public meetings on July 12, 13, and 14, 2004, from 3 p.m. to 7 p.m. in Dauphin Island, Alabama; Mobile, Alabama; and Pascagoula, Mississippi; respectively. Each meeting will consist of an informational open house from 3 p.m. to 4:30 p.m. and a public scoping meeting from 5 p.m. to 7 p.m. There will be a Commission representative at the meeting in Mobile.

Becoming an Intervenor

In addition to involvement in the EA scoping process, you may want to become an official party to the Commission's proceeding, known as an “intervenor”. Intervenors play a more formal role in the process. Among other things, intervenors have the right to receive copies of case-related Commission documents and filings by other intervenors. Likewise, each intervenor must provide 14 copies of its filings to the Secretary of the Commission and must send a copy of its filings to all other parties on the Commission's service list for this proceeding. If you want to become an intervenor you must file a motion to intervene according to Rule 214 of the Commission's Rules of Practice and Procedure (18 CFR 385.214) (see appendix 1).³ Only intervenors have the right to seek rehearing of the Commission's decision.

³ Interventions may also be filed electronically via the Internet in lieu of paper. See the previous discussion on filing comments electronically.

Affected landowners and parties with environmental concerns may be granted intervenor status upon showing good cause by stating that they have a clear and direct interest in this proceeding which would not be adequately represented by any other parties. You do not need intervenor status to have your environmental comments considered.

Environmental Mailing List

An effort is being made to send this notice to all individuals, organizations, and government entities interested in and/or potentially affected by the proposed project. This includes all landowners who are potential right-of-way grantors, whose property may be used temporarily for project purposes, or who own homes within distances defined in the Commission's regulations of certain aboveground facilities.

Additional Information

Additional information about the project is available from the Commission's Office of External Affairs, at 1-866-208-FERC or on the FERC Internet Web site (http://www.ferc.gov) using the eLibrary link. Click on the eLibrary link, click on “General Search” and enter the docket number excluding the last three digits in the Docket Number field. Be sure you have selected an appropriate date range. For assistance with eLibrary, the eLibrary helpline can be reached at 1-866-208-3676, TTY (202) 502-8659, or at FERC Online Support at FERCOnlineSupport@ferc.gov. The eLibrary link on the FERC Internet Web site also provides access to the texts of formal documents issued by the Commission, such as orders, notices, and rulemakings.

In addition, the Commission now offers a free service called eSubscription which allows you to keep track of all formal issuances and submittals in specific dockets. This can reduce the amount of time you spend researching proceedings by automatically providing you with notification of these filings, document summaries and direct links to the documents. Go to http://www.ferc.gov/esubscribenow.htm.

Finally, public meetings or site visits will be posted on the Commission's calendar located at http://www.ferc.gov/EventCalendar/EventsList.aspx along with other related information.

Magalie R. Salas,
Secretary.

[FR Doc. E4-1500 Filed 7-7-04; 8:45 am]

BILLING CODE 6717-01-P